CORPORATION FOR NATIONAL AND COMMUNITY SERVICE

Privacy Act of 1974; System of Records

AGENCY: Corporation for National and Community Service.

ACTION: Notice of a new system of records; and rescindment of four system of records notices.

SUMMARY: In accordance with the Privacy Act of 1974, as amended, the Corporation for National and Community Service (CNCS), Department of the Chief of Program Operations proposes to add a new system of records entitled CNCS-04-CPO-MMF-Member Management Files (MMF). CNCS will use the system of records to select, place, manage, oversee, and support individuals who apply to become an AmeriCorps Service Member (Applicants) and those who are or have been an active AmeriCorps Service Member (Members). It will replace four existing system of records that will be rescinded by this notice.

DATES: You may submit comments until February 24, 2020. This System of Records Notice (SORN) will be effective February 24, 2020 unless CNCS receives any timely comments which would result in a contrary determination.

ADDRESSES: You may submit comments, identified by system name and number, to CNCS via any of the following methods:

1. Electronically through regulations.gov. Once you access regulations.gov, locate the web page for this SORN by searching for CNCS-04-CPO-MMF-Member Management Files (MMF). If you upload any files, please make sure they include your first name, last name, and the name of the proposed SORN.

2. By email at privacy@cns.gov.

3. By mail: Corporation for National and Community Service, Attn: Chief Privacy Officer, OIT, 250 E Street SW, Washington, DC 20525.

4. By hand delivery or courier to CNCS at the address for mail between 9:00 a.m. and 4:00 p.m. Eastern Standard Time, Monday through Friday, except for Federal holidays.

Please note that all submissions received may be posted without change to regulations.gov, including any personal information.

FOR FURTHER INFORMATION CONTACT: If you have general questions about the system of record, you may email them to privacy@cns.gov or mail them to the address in the ADDRESSES section above. Please include the system of record's name and number.

SUPPLEMENTARY INFORMATION: Additional information about AmeriCorps is available at https://nationalservice.gov/programs/americorps.

There are four CNCS SORNS that will be rescinded because their records will be incorporated into CNCS-04-CPO-MMF:

(1) Domestic Full-time Member Census Master File—Corporation-3;

(2) AmeriCorps Full-time Member Personnel Files—Corporation-4;

(3) AmeriCorps Member Individual Accounts—Corporation-8; and

(4) AmeriCorps*VISTA Volunteer Management System Files—Corporation-18.

Replacing the four SORNS with CNCS-04-CPO-MMF will result in one CNCS SORN that:

(1) Conforms to the template requirements prescribed in Office of Management and Budget Circular Number A-108, Federal Agency Responsibilities for Review, Reporting, and Publication under the Privacy Act;

(2) States that the records in the system are Unclassified;

(3) Includes updated addresses that reflect the system's new location;

(4) Permits the collection of records about all Members, Applicants, and everyone who provides a reference for an Applicant (References);

(5) Permits the collection of a broader range of records about the Members, Applicants, and References from a broader range of sources and use them for a broader range of purposes;

(6) Has routine uses that are specific to the system and meet current requirements. This includes two new routine uses to comply with Office of Management and Budget Memorandum M-17-12, Preparing for and Responding to a Breach of Personally Identifiable Information;

(7) Allows the records to be retrieved using additional personal identifiers;

(8) Discusses the current safeguards used to protect the records; and

(9) Has new record access, contesting record, and notification sections that invite individuals to follow a simpler and more defined process;

The four SORNs that will be rescinded, both individually and collectively, do not contain the information that A-108 requires or permit all the activities which are necessary to effectively operate AmeriCorps.

CNCS determined that this combined notice is the most efficient, logical, taxpayer-friendly, and user-friendly method of complying with the publication requirements of the Privacy Act. The subject records reflect a common purpose, common functions, and common user community. This notice of a new SORN; and rescindment of four SORNs, as required by 5 U.S.C. 552a, also fully complies with all Office of Management and Budget policies.

SYSTEM NAME AND NUMBER:

CNCS-04-CPO-MMF-Member Management Files (MMF).

SECURITY CLASSIFICATION:

Unclassified.

SYSTEM LOCATION:

Chief of Program Operations Immediate Office, Corporation for National and Community Service, 250 E Street SW, Suite 300, Washington, DC 20525.

SYSTEM MANAGER(S):

Chief of Program Operations, Chief of Program Operations Immediate Office, Corporation for National and Community Service, 250 E Street SW, Suite 300, Washington, DC 20525.

AUTHORITY FOR MAINTENANCE OF THE SYSTEM:

42 U.S.C. Chapter 129—National and Community Service, 42 U.S.C. Chapter 66—Domestic Volunteer Services, and Executive Order 9397, as amended.

PURPOSE(S) OF THE SYSTEM:

The Corporation for National and Community Service (CNCS) uses the system to select, place, manage, oversee, and support individuals who apply to become an AmeriCorps Service Member (Applicants) and those who are or have been an active AmeriCorps Service Member (Members). For example:

• Determining eligibility of Applicants and selection of Members;

• Assessing Member performance and responding to Member needs (e.g., requests for vacations and accommodations);

• Approving and managing service-related travel, trainings, and living arrangements;

• Calculating and processing living allowances, Segal AmeriCorps Education Awards (Education Awards), reimbursements, and other payments;

• Determining eligibility for health benefits, loan forbearance, and other benefits; and

• Tracking alumni contact information and their interest in alumni-related services. CNCS also uses the system to research and evaluate AmeriCorps' effectiveness and how to enhance the program.

CATEGORIES OF INDIVIDUALS COVERED BY THE SYSTEM:

The system contains records about individuals who apply to become an AmeriCorps Service Member, individuals who are or have been an active AmeriCorps Service Member, and individuals from the public asked to provide a reference for those individuals (References).

CATEGORIES OF RECORDS IN THE SYSTEM:

This is the primary system that CNCS uses to maintain records about Applicants, Members, and their References. It may contain personal identifiers about each Applicant and Member including their name, email addresses, physical addresses, phone numbers, Social Security Number, demographic information (including race, ethnicity, and any disabilities), birth date and location, username and password, National Service Participation Identification number (NSPID), marital status, fingerprints, citizenship status, and government-provided identification documents.

It may contain information about each Applicant and Member's:

• Application to become a Member (e.g., reason for applying, educational history, employment history, military history, prior community service activities, criminal history, medical history, skills, certifications, voter registration status);

• Relatives who served in AmeriCorps and the military;

• AmeriCorps service history and experience (e.g. descriptions of activities, performance reviews, disciplinary concerns, accidents and other health concerns related to service, special accommodations, living arrangements, leave requests, service-related travel and trainings);

• Benefits (e.g., health benefits, childcare benefits, Education Awards, stipends, loan forbearance);

• Oath of office, plus other certifications and consents;

• Living allowances, reimbursements, and banking information;

• Emergency contacts and beneficiaries;

• Automobile and driving history (including insurance coverage and any accidents); and

• Post-service plans and interest in alumni activities.

It may also contain communications with and about each Applicant and Member.

The system may also contain each References' name, email, title, employer, address, phone number, relationship to the Applicant or Member, and assessment of the Applicant or Member.

RECORD SOURCE CATEGORIES:

The sources of records in the system may include, but are not limited to, Applicants, Members, References (including those selected by an Applicant or Member, parole officers, prior workplace supervisors), institutions that may receive an Education Award, organizations that request and receive Members (Project Sponsors), CNCS employees and contractors, other CNCS systems, the Social Security Administration (SSA), Department of Justice (DOJ) criminal history databases, Congresspersons and their staff, and members of the public.

ROUTINE USES OF RECORDS MAINTAINED IN THE SYSTEM, INCLUDING CATEGORIES OF USERS AND PURPOSES OF SUCH USES:

In addition to those disclosures generally permitted under 5 U.S.C. 552a(b) of the Privacy Act of 1974, as amended, all or a portion of the records or information contained in the system may be disclosed to authorized entities, as is determined to be relevant and necessary, as a routine use pursuant to 5 U.S.C. 552a(b)(3) as follows:

1. To the SSA to confirm an Applicant or Member's citizenship status.

2. To the DOJ to obtain an Applicant or Member's criminal history information.

3. To Project Sponsors to recruit, select, place, manage, oversee, and support Members.

4. To a Member's emergency contacts and beneficiaries if that Member experiences an emergency or death.

5. To the Department of the Treasury to pay living allowances, reimbursements, and Education Awards.

6. If a Member asks to send all or part of their Education Award to an institution, CNCS may disclose information from the system to confirm and coordinate the Member's request.

7. All records about FEMA Corps Members may be shared with the Federal Emergency Management Agency to operate FEMA Corps and manage those Members.

8. To other Members for alumni-related activities when the Member gives permission.

9. To the Office of the President, a Member of Congress, or their personnel in response to a request made on behalf of, and at the request of, the individual who is the subject of the record. These advocates will receive the same records that individuals would have received if they filed their own request.

10. To any component of the Department of Justice for the purpose of representing CNCS or its components, officers, employees, or members in pending or potential litigation to which the record is pertinent.

11. In an appropriate proceeding before a court, judicial, administrative, or adjudicative body, or official, when CNCS or another agency representing CNCS determines the records are relevant and necessary to the proceeding, or in an appropriate proceeding before an administrative or adjudicative body when the adjudicator determines the records to be relevant to the proceeding.

12. To a Federal or State agency, judicial, administrative, or adjudicative body, another party, or their representative to a legal matter, or witness when (a) the Federal Government is a party or potential party to a judicial, administrative, or adjudicative proceeding and (b) the record is both necessary and relevant or potentially relevant to that proceeding.

13. To prospective claimants and their attorneys to negotiate a settlement of an actual or prospective claim against CNCS or its current or former employees, in advance of the initiation of a formal legal proceeding.

14. To an arbiter, mediator, or another individual authorized to investigate or settle a grievance, complaint, or appeal filed by an individual who is the subject of, or party to, the record.

15. To any agency, entity, or individual when necessary to acquire information relevant to an investigation.

16. To an appropriate Federal, State, local, tribal, international, or foreign law enforcement agency or other appropriate authority charged with investigating or prosecuting a violation or enforcing or implementing a statute, rule, regulation, or order, when a record, either on its face or in conjunction with other information, indicates a violation or potential violation of civil or criminal law or regulatory violations.

17. To a former CNCS employee for the purpose of responding to an official inquiry by a Federal, State, local, territorial, or tribal entity or professional licensing authority, for the purpose of facilitating communications with a former employee that may be necessary for personnel-related or other official purposes where the CNCS requires information and/or consultation assistance from the former employee regarding a matter within that person's former area of responsibility.

18. To unions recognized as exclusive bargaining representatives under the Civil Service Reform Act of 1978, 5 U.S.C. 7111 and 7114, the Merit Systems Protection Board, arbitrators, the Federal Labor Relations Authority, and other parties responsible for the administration of the Federal labor-management program for the purpose of processing any corrective actions, or grievances, or conducting administrative hearings or appeals.

19. To the Merit Systems Protection Board and the Office of the Special Counsel for the purpose of litigation, including administrative proceedings, appeals, special studies of the civil service and other merit systems; review of Office of Personnel Management (OPM) or component rules and regulations; investigation of alleged or possible prohibited personnel practices, including administrative proceedings involving any individual subject of a CNCS investigation.

20. To OPM for the purpose of addressing civilian pay and leave, benefits, retirement deduction, and any other information necessary for the OPM to carry out its legally authorized government-wide personnel management functions and studies.

21. To appropriate agencies, entities, and persons when:

a. CNCS suspects or has confirmed that there has been a breach of the system of records;

b. CNCS has determined that as a result of the suspected or confirmed breach there is a risk of harm to individuals, CNCS (including its information systems, programs, and operations), the Federal Government, or national security; and

c. The disclosure made to such agencies, entities, and persons is reasonably necessary to assist in connection with CNCS's efforts to respond to the suspected or confirmed breach or to prevent, minimize, or remedy such harm.

22. To another Federal agency or Federal entity, when CNCS determines that information from the system of records is reasonably necessary to assist the recipient agency or entity in:

a. Responding to a suspected or confirmed breach or

b. Preventing, minimizing, or remedying the risk of harm to individuals, the recipient agency or entity (including its information systems, programs, and operations), the Federal Government, or national security, resulting from a suspected or confirmed breach.

23. To the National Archives and Records Administration (NARA) as needed to assist CNCS with records management, conduct inspections of CNCS's records management practices, and carry out other activities required by 44 U.S.C. 2904 and 2906.

24. To NARA's Office of Government Information Services so that it may review agency compliance with the Freedom of Information Act of 1967, as amended, (FOIA) provide mediation services to resolve FOIA disputes, and identify policies and procedures for improving FOIA compliance, and to the extent necessary to fulfill its responsibilities as required by 5 U.S.C. 552(h)(2)(A-B) and (3).

25. To respond to a FOIA request per the processes established in 45 CFR part 2507 or a Privacy Act request per the requirements in 45 CFR part 2508.

26. To a Federal agency in connection with hiring or retaining an employee, vetting an Applicant, Member, or employee in response to the issuance of a security clearance, conducting a background check for suitability or security investigation of an individual, classifying jobs, the letting of a contract, or the issuance of a license, contract, grant, or other benefit by the requesting agency, and to the extent that the information is relevant and necessary to the requesting agency's decision on the matter.

27. To agency contractors, grantees, Project Sponsors, interns, and other authorized individuals engaged to assist the agency in the performance of a project, contract, service, grant, cooperative agreement, or other activity when it requires access to the records to accomplish an agency function, task, or assignment. Individuals provided information under this routine use are subject to the same Privacy Act requirements and limitations on disclosure as are applicable to CNCS employees.

28. To the Equal Employment Opportunity Commission when requested in connection with investigations into alleged or possible discrimination practices in the Federal sector, compliance by Federal agencies with the Uniform Guidelines on Employee Selection Procedures, or other functions vested in the Commission and to otherwise ensure compliance with the provisions of 5 U.S.C. 7201.

29. To an agency or organization to audit or oversee CNCS's or a vendor's operations as authorized by law, but only such information as is necessary and relevant to such audit or oversight function.

30. To any official or designee charged with the responsibility to conduct qualitative assessments at a designated statistical agency and other well established and trusted public or private research organizations, academic institutions, or agencies for an evaluation, study, research, or other analytical or statistical purpose.

31. To a contractor, grantee, or other recipient of Federal funds when the record to be released reflects serious inadequacies with the recipient's personnel, and disclosure of the record permits the recipient to effect corrective action in the Federal Government's best interests.

32. To a contractor, grantee, or other recipient of Federal funds indebted to the Federal Government through its receipt of Federal funds if release of the record would allow the debtor to collect from a third party.

33. To consumer reporting agencies (as defined in the Fair Credit Reporting Act, 14 U.S.C. 1681a(f), or the Federal Claims Collection Act of 1966, 31 U.S.C. 3701(a)(3)), the U.S. Department of the Treasury, other Federal agencies maintaining debt servicing centers, and private collection contractors to collect a debt owed to the Federal Government as provided in regulations promulgated by CNCS.

34. To the news media and the public, with the approval of the Chief Privacy Officer in consultation with counsel, when there exists a legitimate public interest in the disclosure of the information, when disclosure is necessary to preserve confidence in the integrity of CNCS, or when disclosure is necessary to demonstrate the accountability of CNCS's officers, employees, or individuals covered by the system, except to the extent the Chief Privacy Officer determines that release of the specific information in the context of a particular case would constitute a clearly unwarranted invasion of personal privacy.

POLICIES AND PRACTICES FOR STORAGE OF RECORDS:

Paper records are stored in locked rooms, file cabinets, and desks. Electronic records and backups are stored on secure servers and encrypted media to include computers and network drives.

POLICIES AND PRACTICES FOR RETRIEVAL OF RECORDS:

Records in the system may be retrieved by any of the personal identifiers listed or described in CATEGORIES OF RECORDS IN THE SYSTEM.

POLICIES AND PRACTICES FOR RETENTION AND DISPOSAL OF RECORDS:

All records in the system will be retained until their retention and disposal schedule is approved by NARA, then retained and disposed according to the applicable schedule.

ADMINISTRATIVE, TECHNICAL, AND PHYSICAL SAFEGUARDS:

Paper records are maintained in locked rooms, file cabinets, and desks when not in use. Electronic records are maintained in accordance with National Institute of Standards and Technology Special Publication 800-53 Rev. 4, Security and Privacy Controls for Federal Information Systems and Organizations or the updated equivalent. All records are encrypted at rest and in transit, and servers are protected by locks, guards, personnel screening, and visitor registers. Electronic and physical access to both electronic and paper records is restricted to authorized personnel who require the information to complete their assigned tasks and have been trained how to properly handle and safeguard the records.

RECORD ACCESS PROCEDURES:

In accordance with 45 CFR part 2508—Implementation of the Privacy Act, individuals wishing to access their own records as stored within the system of records may contact the FOIA Officer/Privacy Act Officer by sending (1) an email to FOIA@cns.gov or (2) a letter to the System Manager. Individuals may also go in-person to the address in the System Location section of this notice and ask to speak to the FOIA Officer/Privacy Act Officer within the Office of General Counsel. Individuals who make a request must include enough identifying information (i.e., full name, current address, date, and signature) to locate their records, indicate that they want to access their records, and be prepared to confirm their identity as required by 45 CFR part 2508.

CONTESTING RECORD PROCEDURES:

Individuals who wish to contest their own records as stored within the system of records may contact the FOIA Officer/Privacy Act Officer in writing via the contact information in the RECORD ACCESS PROCEDURES section. Individuals who make a request must include enough identifying information to locate their records, an explanation of why they think their records are incomplete or inaccurate, and be prepared to confirm their identity as required by 45 CFR part 2508.

NOTIFICATION PROCEDURES:

Individuals seeking to determine whether the system of records contains information about themselves should contact the FOIA Officer/Privacy Act Officer in writing via the contact information in the RECORD ACCESS PROCEDURES section. Individuals who make a request must include enough identifying information to locate their records, indicate that they want to be notified whether their records are included in the system, and be prepared to confirm their identity as required by 45 CFR part 2508.

EXEMPTIONS PROMULGATED FOR THE SYSTEM:

None.

HISTORY:

None.

Notice of Rescindment

These four systems of records notices will be rescinded on February 24, 2020, and replaced by CNCS-04-CPO-MMF-Member Management Files (MMF), unless CNCS receives any timely comments which would result in a contrary determination.

SYSTEM NAME AND NUMBER:

Domestic Full-time Member Census Master File—Corporation-3.

HISTORY:

64 FR 10879, 10882, March 5, 1999; 65 FR 46890, 46894, August 1, 2000; 67 FR 4395, 4399, January 30, 2002.

SYSTEM NAME AND NUMBER:

AmeriCorps Full-time Member Personnel Files—Corporation-4.

HISTORY:

64 FR 10879, 10883, March 5, 1999; 65 FR 46890, 46894, August 1, 2000; 67 FR 4395, 4400, January 30, 2002.

SYSTEM NAME AND NUMBER:

AmeriCorps Member Individual Accounts—Corporation-8.

HISTORY:

64 FR 10879, 10886, March 5, 1999; 65 FR 46890, 46897, August 1, 2000; 67 FR 4395, 4403, January 30, 2002.

SYSTEM NAME AND NUMBER:

AmeriCorps*VISTA Volunteer Management System Files—Corporation-18.

HISTORY:

64 FR 10879, 10893, March 5, 1999; 65 FR 46890, 46905, August 1, 2000; 67 FR 4395, 4410, January 30, 2002.

Dated: January 16, 2020.
Ndiogou Cisse,
Senior Agency Official for Privacy and Chief Information Officer.

[FR Doc. 2020-01080 Filed 1-22-20; 8:45 am]

BILLING CODE 6050-28-P